DEPARTMENT OF LABOR

Employment and Training Administration

[TA-W-62,758]

Parker International Products, Inc.; Worcester, MA; Notice of Termination of Investigation

Pursuant to section 221 of the Trade Act of 1974, as amended, an investigation was initiated on January 29, 2008 in response to a petition filed by a company official on behalf of workers of Parker International Products, Inc., Worcester, Massachusetts.

The petitioner has requested that the petition be withdrawn. Consequently, the investigation has been terminated. Therefore, further investigation in this case would serve no purpose.

Signed at Washington, DC, this 7th day of February, 2008.
Elliott S. Kushner,
Certifying Officer, Division of Trade Adjustment Assistance.

[FR Doc. E8-3224 Filed 2-20-08; 8:45 am]

BILLING CODE 4510-FN-P